ELECTION ASSISTANCE COMMISSION

Sunshine Act Notice

Agency: United States Election Assistance Commission.

* * * * *

Action: Notice of Public Meeting.

Date & Time: Wednesday, February 21, 2007, 8 a.m.-8:30 a.m.

Place: Ritz-Carlton Atlanta, 191 Peachtree Street, NE., Ballroom Pre-Function III/IV, Atlanta, Georgia 30303, (404) 659-0400.

Agenda: The Commission will consider accrediting iBeta Quality Assurance and SysTest Labs LLC. to receive federal approval to test voting systems against federal voting system standards and guidelines based upon the recommendations of the National Institute of Standards and Technology (NIST) as required by the Help America Vote Act (HAVA).

This meeting will be open to the public.

Statement of Exception Circumstances: This notice of a meeting will not be published in the Federal Register 7 days prior to the meeting date. Late notice was unavoidable due to the combination of two factors: (1) The time required for EAC to properly evaluate the January 18, 2007 recommendations EAC received from NIST to federally accredit two voting system test laboratories and (2) to serve the public interest by having the two federally accredited labs in place immediately in order to begin testing voting systems against federal voting system standards and guidelines. With the 2008 elections schedule fast approaching, it is most critical that the federal voting system testing process begin at the earliest possible date.

Person to Contact for Information: Bryan Whitener, Telephone: (202) 566-3100.

* * * * *

Gracia M. Hillman,
Commissioner, U.S. Election Assistance Commission.

[FR Doc. 07-809 Filed 2-16-07; 4:21 pm]

BILLING CODE 6820-KF-M